DEPARTMENT OF ENERGY

Federal Energy Regulatory Commission

[Docket No. IC18-11-000]

Commission Information Collection Activities (FERC-585); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-585 (Reporting of Electric Energy Shortages and Contingency Plans Under PURPA Section 206).

DATES: Comments on the collection of information are due June 11, 2018.

ADDRESSES: You may submit comments (identified by Docket No. IC18-11-000) by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-585 (Reporting of Electric Energy Shortages and Contingency Plans Under PURPA ¹ Section 206).

¹ PURPA = Public Utility Regulatory Policies Act of 1979 (Pub. L. 95-617, 92 Statute 3117), enacted 11/9/1978.

OMB Control No.: 1902-0138.

Type of Request: Three-year extension of the FERC-585 information collection requirements with no changes to the current reporting requirements.

Abstract: The Commission uses the information collected under the requirements of FERC-585 “Reporting of Electric Energy Shortages and Contingency Plans under Public Utility Regulatory Policies Act of 1979” to implement the statutory provisions of Section 206 of PURPA. Section 206 of PURPA amended the Federal Power Act (FPA) by adding a new subsection (g) to section 202, under which the Commission, by rule, was to require each public utility to report to the Commission and any appropriate state regulatory authority:

• Any anticipated shortages of electric energy or capacity which would affect the utility's capability to serve its wholesale customers; and

• a contingency plan that would outline what circumstances might give rise to such occurrences.

In Order No. 575,² the Commission modified the reporting requirements in 18 CFR 294.101(b) to provide that, if a public utility includes in its rates schedule, provisions that during electric energy and capacity shortages:

² Final Rule in Docket RM92-12-000, issued on 1/13/1995.

• It will treat firm power wholesale customers without undue discrimination or preference; and

• it will report any modifications to its contingency plan for accommodating shortages within 15 days to the appropriate state regulatory agency and to the affected wholesale customers, then the utility need not file with the Commission an additional statement of contingency plan for accommodating such shortages.

This revision merely changed the reporting mechanism; the public utility's contingency plan would be located in its filed rate rather than in a separate document.

In Order No. 659,³ the Commission modified the reporting requirements in 18 CFR 294.101(e) to provide that the means by which public utilities must comply with the requirements to report shortages and anticipated shortages is to submit this information electronically using the Office of Electric Reliability's pager system at emergency@ferc.gov in lieu of submitting an original and two copies with the Secretary of the Commission.

³ Final Rule in Docket RM05-19-000, issued on 5/27/2005.

The Commission uses the information to evaluate and formulate an appropriate option for action in the event an unanticipated shortage is reported and/or materializes. Without this information, the Commission and State agencies would be unable to:

• Examine and approve or modify utility actions;

• prepare a response to anticipated disruptions in electric energy; and/or

• ensure equitable treatment of all public utility customers under the shortage situations.

The Commission implements these filing requirements in the Code of Federal Regulations (CFR) under 18 CFR part 294.101.

Type of Respondents: Public Utilities.

Estimate of Annual Burden: ⁴ The Commission estimates the annual public reporting burden for the information collection as:

⁴ “Burden” is defined as the total time, effort, or financial resources expended by persons to generate, maintain, retain, or disclose or provide information to or for a Federal agency. For further explanation of what is included in the information collection burden, reference 5 Code of Federal Regulations 1320.3.

Reporting of Electric Energy Shortages and Contingency Plans Under PURPA
Number of respondents | Annual number of responses per respondent | Total number of responses | Average burden & cost per response ⁵ | Total annual burden hours & total annual cost | Cost per respondent
(1) | (2) | (1) * (2) = (3) | (4) | (3) * (4) = (5) | (5) ÷ (1)
1 | 1 | 1 | 73 hrs.; $5,585 | 73 hrs.; $5,585 | $5,585

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁵ The estimates for cost per response are derived using the following formula: Average Burden Hours per Response * $76.50 per Hour = Average Cost per Response. The figure comes from the 2017 FERC average hourly cost (for wages and benefits) of $76.50 (and an average annual salary of $158,754). Commission staff is using the FERC average salary because we consider any reporting completed in response to the FERC-585 to be compensated at rates similar to the work of FERC employees.

Dated: April 6, 2018.
Kimberly D. Bose,
Secretary.

[FR Doc. 2018-07555 Filed 4-11-18; 8:45 am]

BILLING CODE 6717-01-P